DEPARTMENT OF AGRICULTURE

DEPARTMENT OF HEALTH AND HUMAN SERVICES

Announcement of the Second Dietary Guidelines Advisory Committee Meeting, Invitation for Oral Testimony, and Solicitation of Written Comments

AGENCIES: U.S. Department of Agriculture (USDA), Food, Nutrition and Consumer Services (FNCS) and Research, Education and Economics (REE); and U.S. Department of Health and Human Services (HHS), Office of Public Health and Science (OPHS).

ACTION: Notice.

SUMMARY: The Department of Agriculture (USDA) and the Department of Health and Human Services (HHS): (a) Provide notice of the second meeting of the Dietary Guidelines Advisory Committee; (b) invite requests for oral testimony; and (c) solicit written comments pertinent to a review of the Dietary Guidelines for Americans.

DATES: This Notice is provided to the public on January 8, 2009. (1) The Committee will meet on January 29 and 30, 2009, from 8:30 a.m.-4 p.m. E.S.T. both days. (2) Requests to present three minutes of oral testimony, in the morning of the first day, must be received by 5 p.m. E.S.T., on January 23, 2009. (3) Written comments pertinent to review of the Dietary Guidelines for Americans must be received by 5 p.m. E.S.T. on January 23, 2009, to ensure transmission to the Committee prior to this meeting. Written comments will be accepted throughout the Committee deliberation process.

ADDRESSES: The second meeting will take place at the U.S. Department of Agriculture, Jefferson Auditorium, 1400 Independence Ave., SW., Washington, DC 20250. Requests for three minutes of oral testimony on January 29th can be made by going to http://www.DietaryGuidelines.gov and clicking on the link for Meeting Registration or by calling the scheduler through the meeting planner, Crystal Tyler, at 202-314-4701 by 5 p.m. E.S.T., January 23, 2009. Written comments (separate from oral testimony) are encouraged to be submitted electronically at http://www.DietaryGuidelines.gov. A “submit comments” button is available for access to the public comments database. Lengthy comments or support materials can be uploaded as an attachment. Multiple attachments must be “zip-filed.” Comments not submitted electronically can be mailed, faxed, or delivered to: Carole Davis, Co-Executive Secretary of the Dietary Guidelines Advisory Committee, Center for Nutrition Policy and Promotion, U.S. Department of Agriculture, 3101 Park Center Drive, Room 1034, Alexandria, VA 22302, 703-305-7600 (telephone), 703-305-3300 (fax). All comments will become part of the public comments database.

FOR FURTHER INFORMATION CONTACT: USDA Co-Executive Secretaries: Carole Davis (telephone 703-305-7600), Center for Nutrition Policy and Promotion, 3101 Park Center Drive, Room 1034, Alexandria, Virginia 22302; or Shanthy Bowman (telephone 301-504-0619), Agricultural Research Service (ARS), Beltsville Human Nutrition Research Center, 10300 Baltimore Avenue, Building 005, Room 125, BARC-WEST, Beltsville, Maryland 20705. HHS Co-Executive Secretaries: Kathryn McMurry (telephone 240-453-8280) or Holly McPeak (telephone 240-453-8280), Office of Disease Prevention and Health Promotion, Office of Public Health and Science, 1101 Wootton Parkway, Suite LL100, Rockville, Maryland 20852. Additional information is available on the Internet at http://www.DietaryGuidelines.gov.

SUPPLEMENTARY INFORMATION: Dietary Guidelines Advisory Committee: The thirteen-member Committee appointed by the Secretaries of the two Departments is chaired by Linda V. Van Horn, PhD, R.D., L.D., Northwestern University, Chicago, Illinois. The Vice Chair of the Committee is Naomi K. Fukagawa, M.D., PhD, University of Vermont, Burlington, Vermont. Other members are: Cheryl Achterberg, PhD, The Ohio State University, Columbus, Ohio; Lawrence J. Appel, M.D., M.P.H., Johns Hopkins Medical Institutions, Baltimore, Maryland; Roger A. Clemens, Dr.P.H, The University of Southern California, Los Angeles, California; Miriam E. Nelson, PhD, Tufts University, Boston, Massachusetts; Sharon M. Nickols-Richardson, PhD, R.D., Pennsylvania State University, University Park, Pennsylvania; Thomas A. Pearson, M.D., PhD, M.P.H., University of Rochester, Rochester, New York; Rafael Pérez-Escamilla, PhD, University of Connecticut, Storrs, Connecticut; Xavier Pi-Sunyer, M.D., M.P.H., Columbia University College of Physicians and Surgeons, New York, New York; Eric B. Rimm, Sc.D., Harvard University, Boston, Massachusetts; Joanne L. Slavin, PhD, R.D., University of Minnesota, St. Paul, Minnesota; and Christine L. Williams, M.D., M.P.H., Columbia University (Retired), Healthy Directions, Inc., New York, New York.

Purpose of the Meeting: Section 301 of Public Law 101-445 (7 U.S.C. 5341, the National Nutrition Monitoring and Related Research Act of 1990, Title III) directs the Secretaries of USDA and HHS to publish the Dietary Guidelines for Americans at least every five years. At its first meeting, the Dietary Guidelines Advisory Committee advised that a revision of the 2005 Dietary Guidelines for Americans is warranted. After a thorough review of the most current scientific and applied literature and open Committee deliberations, the Committee will provide its recommendations in the form of an advisory report to the Secretaries of both Departments.

Meeting Agenda: The meeting will: (a) Provide an opportunity for the public to give oral testimony; (b) include presentations on the descriptive statistics on usual nutrient and food-group intakes in the U.S. population and MyPyramid research updates; and (c) allow for the continued formulation of plans for future work of the Committee.

Public Participation and Building Access

The Jefferson Auditorium is in the USDA South Building, located at the corner of Independence Ave. and 14th Street, SW., Washington, DC. The meeting is open to the public. Due to the need for security screening, pre-registration is required and all visitors must bring a photo I.D. To pre-register, please go to http://www.DietaryGuidelines.gov and click on the link for Meeting Registration or call the scheduler through the meeting planner, Crystal Tyler, at 202-314-4701 by 5 p.m. E.S.T., January 27, 2009. Registration must include name, affiliation, phone number or e-mail, and days attending. Registrants need to indicate whether oral testimony will be provided by January 23, 2009. Following pre-registration, individuals will receive a confirmation of registration via e-mail. This e-mail will also include important information regarding security procedures for entering the South Building, instructions to the Jefferson Auditorium, and metro, parking, and hotel information. Please call Crystal Tyler at 202-314-4701 should you require a sign language interpreter or require other special accommodations.

Oral Testimony: By this notice, the Committee is inviting submission of requests from the public to present three minutes of oral testimony. Oral testimony will be held on the morning of January 29, 2009. Due to time limitations, pre-registration is required. Registration to present oral testimony will be confirmed on a first-come, first-serve basis, as time on the meeting agenda permits. Requests can be made by going to http://www.DietaryGuidelines.gov and clicking on the link for Meeting Registration or by calling the scheduler through the meeting planner, Crystal Tyler, at 202-314-4701 by 5 p.m. E.S.T., January 23, 2009. Requests to present oral testimony must include a written outline of the intended testimony not exceeding one page in length. Presenters are required to disclose their affiliation and their source of funding to give oral testimony at the meeting and limit their comments to three minutes. More detailed, written comments may be submitted separately.

Written Comments: By this notice, the Committee is soliciting submission of written comments, views, information and data pertinent to the review of the Dietary Guidelines for Americans. Written comments (separate from for oral testimony) are encouraged to be submitted electronically at http://www.DietaryGuidelines.gov. A “submit comments” button is available for access to the public comments database. Lengthy comments or support materials can be uploaded as an attachment. Multiple attachments must be “zip-filed.” Comments not submitted electronically can be mailed, faxed, or delivered to: Carole Davis, Co-Executive Secretary of the Dietary Guidelines Advisory Committee, Center for Nutrition Policy and Promotion, U.S. Department of Agriculture, 3101 Park Center Drive, Room 1034, Alexandria, VA 22302, 703-305-7600 (telephone), 703-305-3300 (fax). All comments will become part of the public comments database. Comments are welcome throughout the Committee's deliberations.

Public Documents: Documents pertaining to Committee deliberations will be available for public viewing at the meeting, and thereafter, will also be accessible 8:30 a.m. to 4:30 p.m. E.S.T., Monday through Friday (except Federal holidays), at the Reference Desk of the National Agricultural Library, USDA/ARS, 10301 Baltimore Avenue, Beltsville, MD 20705. The Reference Desk telephone phone number is 301-504-5755; however, no advance appointment is necessary. Meeting materials (i.e., agenda, meeting minutes, and transcript), once available, can be found at http://www.DietaryGuidelines.gov.

Dated: December 18, 2008.
Brian Wansink,
Executive Director, Center for Nutrition Policy and Promotion, U.S. Department of Agriculture.
Dated: December 18, 2008.
Edward B. Knipling,
Administrator, Agricultural Research Service, U.S. Department of Agriculture.
Dated: December 18, 2008
Penelope Slade-Sawyer,
Deputy Assistant Secretary for Health (Disease Prevention and Health Promotion), U.S. Department of Health and Human Services.

[FR Doc. E9-93 Filed 1-7-09; 8:45 am]

BILLING CODE 3410-30-P